DEPARTMENT OF VETERANS AFFAIRS

[OMB Control No. 2900—NEW]

Agency Information Collection Activity: Pulmonary Health and Deployment to Southwest Asia and Afghanistan

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before May 17, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Cynthia D. Harvey-Pryor, Office of Quality, Privacy and Risk (OQPR), Department of Veterans Affairs, 810 Vermont Avenue NW, Washington, DC 20420, (202) 461-5870 or email cynthia.harvey-pryor@va.gov. Please refer to “OMB Control No. 2900-NEW” in any correspondence.

SUPPLEMENTARY INFORMATION:

Authority: 38 CFR part 16.

Title: Pulmonary Health and Deployment to Southwest Asia and Afghanistan.

OMB Control Number: 2900-NEW.

Type of Review: New collection.

Abstract: The Department of Veterans Affairs Cooperative Studies Program (CSP) is conducting a human subjects research study to understand the association between military deployment to Afghanistan, Iraq, and 5 other countries and current pulmonary function. Data on deployment locations, exposures while deployed, current pulmonary function and several important covariates are not available and will need to be collected from participants. This research study will generate data which will be used to assist VA in obtaining information that can be used to improve health care for Veterans.

An agency may not conduct or sponsor, and a person is not required to respond to a collection of information unless it displays a currently valid OMB control number. The Federal Register Notice with a 60-day comment period soliciting comments on this collection of information was published at 83 FR 2876 on January 19, 2018, pages 2876-2877.

Affected Public: Individuals and households.

Estimated Annual Burden:

Recruitment Screening Module—517 hours.

Spirometry Screening Module—1,033 hours.

Military Overview Module—517 hours.

OEF/OIF/OND Location Module—1,550 hours.

Non-OEF/OIF/OND Location Module—1,550 hours.

OEF/OIF/OND Exposure Module—1,033 hours.

Non-OEF/OIF/OND Exposure Module—1,033 hours.

Civilian Occupation and Hobby Exposure Module—517 hours.

Health, Smoking, and Demographics Module—1,550 hours.

Medication and Dietary Supplement Module—1,033 hours.

Participant Status Check-In Module—517 hours.

Spirometry—3,617 hours.

Medical History Module—517 hours.

Functional Health Module—413 hours.

Health Symptoms Module—310 hours.

Current Mood Module—517 hours.

Participant Feedback Module—310 hours.

Post-Visit Feedback Module—52 hours.

Estimated Average Burden per Respondent:

Recruitment Screening Module—5 minutes.

Spirometry Screening Module—10 minutes.

Military Overview Module—5 minutes.

OEF/OIF/OND Location Module—15 minutes.

Non-OEF/OIF/OND Location Module—15 minutes.

OEF/OIF/OND Exposure Module—10 minutes.

Non-OEF/OIF/OND Exposure Module—10 minutes.

Civilian Occupation and Hobby Exposure Module—5 minutes.

Health, Smoking, and Demographics Module—15 minutes.

Medication and Dietary Supplement Module—10 minutes.

Participant Status Check-In Module—5 minutes.

Spirometry—35 minutes.

Medical History Module—5 minutes.

Functional Health Module—4 minutes.

Health Symptoms Module—3 minutes.

Current Mood Module—5 minutes.

Participant Feedback Module—3 minutes.

Post-Visit Feedback Module—10 minutes.

Frequency of Response: Annually.

Estimated Number of Respondents:

Recruitment Screening Module—6200.

Spirometry Screening Module—6200.

Military Overview Module—6200.

OEF/OIF/OND Location Module—6200.

Non-OEF/OIF/OND Location Module—6200.

OEF/OIF/OND Exposure Module- 6200.

Non-OEF/OIF/OND Exposure Module—6200.

Civilian Occupation and Hobby Exposure Module—6200.

Health, Smoking, and Demographics Module—6200.

Medication and Dietary Supplement Module—6200.

Participant Status Check-In Module- 6200.

Spirometry—6200.

Medical History Module—6200.

Functional Health Module—6200.

Health Symptoms Module—6200.

Current Mood Module—6200.

Participant Feedback Module—6200.

Post-Visit Feedback Module—310.

By direction of the Secretary.
Cynthia D. Harvey-Pryor,
Department Clearance Officer, Office of Quality, Privacy and Risk, Department of Veterans Affairs.

[FR Doc. 2018-07952 Filed 4-16-18; 8:45 am]

BILLING CODE 8320-01-P